POSTAL SERVICE

39 CFR Part 20

Return Address Requirement —Outbound International Commercial Bulk Mailings

AGENCY: Postal Service™.

ACTION: Final rule with comment period.

SUMMARY: The Postal Service is revising the Mailing Standards of the United States Postal Service, International Mail Manual (IMM®) to require that mailpieces prepared as a commercial bulk mailing must bear a complete U.S. return address.

DATES: Effective date: January 4, 2010.

Comment date: Mail or deliver written comments until December 4, 2009.

ADDRESSES: Mail or deliver written comments to the Manager, Mailing Standards, U.S. Postal Service, 475 L'Enfant Plaza, SW., Room 3436, Washington, DC 20260-3436. You may inspect and photocopy all written comments at USPS Headquarters Library, 475 L'Enfant Plaza, SW., 11th Floor N., Washington, DC between 9 a.m. and 4 p.m., Monday through Friday. E-mail comments, containing the name and address of the commenter, may be sent to MailingStandards@usps.gov with a subject line of “Return Address Requirement—Outbound International Commercial Bulk Mailings.” Faxed comments will not be accepted.

FOR FURTHER INFORMATION CONTACT: Rick Klutts at 813-877-0372.

SUPPLEMENTARY INFORMATION: The Postal Service is making this change to be consistent with the amended regulations of the Universal Postal Union (UPU) Proposal 25.123.2 that revises Article RL 123, Paragraph 10 of the UPU Letter Post Regulations. This revision will codify that mailpieces prepared as a commercial bulk mailing must bear a complete return address in the country of origin of the mail. For this purpose, a “bulk mailing” is any International Priority Airmail™ (IPA®) or International Surface Air Lift® (ISAL®) mailing, or any other mailing paid with an advance deposit account presented to the USPS for weighing and acceptance.

The Postal Service hereby adopts the following changes to Mailing Standards of the United States Postal Service, International Mail Manual (IMM), which is incorporated by reference in the Code of Federal Regulations. See 39 CFR 20.1.

List of Subjects in 39 CFR Part 20

Foreign relations, International postal services.

Accordingly, 39 CFR part 20 is amended as follows:

PART 20—[AMENDED]

1. The authority citation for 39 CFR part 20 continues to read as follows:

Authority: 5 U.S.C. 552(a); 39 U.S.C. 401, 404, 407, 408, 3622, 3632, and 3633.

2. Revise the following sections of Mailing Standards of the United States Postal Service, International Mail Manual (IMM), as follows:

Mailing Standards of the United States Postal Service, International Mail Manual (IMM)

1 International Mail Services

* * * * *

120 Preparation for Mailing

* * * * *

122 Addressing

* * * * *

122.2 Return Address

[Revise 122.2 as follows:]

Due to heightened security, many foreign postal administrations require complete sender and addressee information in roman letters and arabic numerals on postal items. The complete address of the sender, including ZIP Code and country of origin, should be shown in the upper left corner of the address side of the envelope, card, flat, or package. Only one return address may be used, and it must be located so that it does not affect either the clarity of the address of destination or the application of service labels and notations (postmarks, etc.). Unregistered items bearing a return address in another country are accepted only at the sender's risk. In the case of bulk mailings, all mailpieces must bear a complete U.S. return address. For the purpose of this section, a “bulk mailing” is any IPA or ISAL mailing, or any other mailing paid with an advance deposit account presented to the USPS for weighing and acceptance.

* * * * *

2 Conditions for Mailing

* * * * *

290 Commercial Services

* * * * *

292 International Priority Airmail (IPA) Service

* * * * *

292.4 Mail Preparation

[Revise the title and introductory sentence in 292.41 as follows:]

292.41 Addressing and Return Address

IPA mailpieces are subject to the addressing requirements contained in 122, including the requirement of a complete U.S. return address.

* * * * *

293 International Surface Air Lift (ISAL) Service

* * * * *

293.4 Mail Preparation

[Revise the title and introductory sentence in 293.41 as follows:]

293.41 Addressing and Return Address

ISAL mailpieces are subject to the addressing requirements contained in 122, including the requirement of a complete U.S. return address.

* * * * *

We will publish an appropriate amendment to 39 CFR part 111 to reflect these changes.

Stanley F. Mires,
Chief Counsel.

[FR Doc. E9-25461 Filed 10-26-09; 8:45 am]

BILLING CODE 7710-12-P